SMALL BUSINESS ADMINISTRATION

[Disaster Declaration #10525 and #10526]

New Jersey Disaster #NJ-00004

AGENCY: U.S. Small Business Administration.

ACTION: Notice.

SUMMARY: This is a Notice of the Presidential declaration of a major disaster for the State of New Jersey (FEMA-1653-DR), dated 07/07/2006.

Incident: Severe Storms and Flooding.

Incident Period: 06/23/2006 and continuing.

Effective Date: 07/07/2006.

Physical Loan Application Deadline Date: 09/05/2006.

Economic Injury (EIDL) Loan Application Deadline Date: 04/09/2007.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 07/07/2006, applications for disaster loans may be filed at the address listed above or other locally announced locations.

The following areas have been determined to be adversely affected by the disaster:

Primary Counties (Physical Damage and Economic Injury Loans):

Hunterdon, Mercer, Warren.

Contiguous Counties (Economic Injury Loans Only):

New Jersey: Burlington, Middlesex, Monmouth, Morris, Somerset, Sussex.

Pennsylvania: Bucks, Monroe, Northampton.

The Interest Rates are:

| Percent
For Physical Damage:
Homeowners With Credit Available Elsewhere | 5.875
Homeowners Without Credit Available Elsewhere | 2.937
Businesses With Credit Available Elsewhere | 7.763
Businesses and Non-Profit Organizations Without Credit Available Elsewhere | 4.000
Other (Including Non-Profit Organizations) With Credit Available Elsewhere | 5.000
For Economic Injury:
Businesses & Small Agricultural Cooperatives Without Credit Available Elsewhere | 4.000

The number assigned to this disaster for physical damage is 10525 B and for economic injury is 10526 0.

(Catalog of Federal Domestic Assistance Numbers 59002 and 59008)

Roger B. Garland,
Acting Associate Administrator for Disaster Assistance.

[FR Doc. E6-11144 Filed 7-14-06; 8:45 am]

BILLING CODE 8025-01-P